DEPARTMENT OF HEALTH AND HUMAN SERVICES

Centers for Disease Control and Prevention

[Program Announcement 04080]

Health Resources and Services Administration Rapid Expansion of Antiretroviral Therapy Programs for HIV-Infected Persons in Selected Countries in Africa and the Caribbean Under the President's Emergency Plan for AIDS Relief; Notice of Availability of Funds-Amendment

A notice announcing the availability of fiscal year (FY) 2004 funds for a cooperative agreement to rapidly expand ART for low-income HIV-infected persons in selected countries in Africa and the Caribbean under the President's Emergency Plan for AIDS Relief was published in the Federal Register on December 1, 2003, Volume 68, Number 230, pages 67186-67192. The notice is amended as follows: On page 67188, Column 1, Section “III.1. Eligible Applicants,” please insert the following between the first and second paragraphs:

The intent of this solicitation to support organizations that can rapidly implement ARV programs in three or more countries in which each applicant already has an operational presence. Although applications that consist of partnerships or consortia (of organizations that individually do not meet the eligibility criteria) that were formed specifically for the purpose of responding to this RFA would technically meet the eligibility requirements, the duration of the experience of partnerships or consortia (of organizations that individually do not meet the eligibility criteria) in working together will be considered in evaluating the strength of the applicants' proposal.

In addition, on page 67188, Column 2, Section “IV.1. Address to Request Application Package,” please disregard the first sentence and replace it with the following:

To apply for this funding opportunity use either application form CDC 5161-1 or CDC 0.1246(E), but we would prefer form CDC 5161-1.

Dated: December 17, 2003.
Sandra R. Manning,
Director, Procurement and Grants Office, Centers for Disease Control and Prevention.

[FR Doc. 03-31831 Filed 12-22-03; 10:26 am]

BILLING CODE 4163-18-P